DEPARTMENT OF ENERGY

Advancing the Bioeconomy Workshop

AGENCY: Office of Energy Efficiency and Renewable Energy, Department of Energy

ACTION: Notice of public workshop.

SUMMARY: The Department of Energy (DOE) is announcing a public workshop entitled, “Advancing the Bioeconomy: From Waste to Conversion-Ready Feedstocks.” The Bioenergy Technologies Office (BETO) seeks to gather input from experts on the present state and future potential of using waste streams, particularly municipal solid waste, as a feedstock for producing fuels, products, and power.

DATES: The workshop will be held on February 19, 2020, 8:00 a.m.-5:00 p.m., and February 20, 2020, 8:00 a.m.-12:30 p.m. To attend the workshop, you must contact Dr. Brianna Farber at (202) 586-5188 or Email: eere_biomass@ee.doe.gov by February 18, 2020. This event is open to the public but seating is limited. For those who are unable to attend the workshop but wish to submit comments, comments must be submitted on or before February 18th, 2020.

ADDRESSES: The workshop will be held at the DoubleTree by Hilton Washington DC-Crystal City, 300 Army Navy Drive, Arlington, VA 22202.

Comments may be submitted by the following methods:

Email: eere_biomass@ee.doe.gov. Include “MSW workshop—public” in the subject line of the message.

Postal Mail: Brianna Farber, Forrestal South 5H, U.S. Department of Energy, 1000 Independence Avenue SW, Washington, DC 20585. Due to the potential delays in DOE's receipt and processing of mail sent through the U.S. Postal Service, DOE encourages respondents to submit comments electronically to ensure timely receipt.

FOR FURTHER INFORMATION CONTACT: Dr. Brianna Farber, Office of Energy Efficiency and Renewable Energy, U.S. Department of Energy, 1000 Independence Avenue SW, Washington, DC 20585; at (202) 586-5188; Email: eere_biomass@ee.doe.gov.

SUPPLEMENTARY INFORMATION:

Purpose of the Meeting

BETO seeks to gather input from experts on the present state and future potential of using waste streams as a feedstock for producing fuels, products, and power. BETO intends to cover the following topics at the workshop:

• Presentations on Municipal Solid Waste (MSW) characterization and quality parameters; logistics and preprocessing; and valorization and sustainability

• Discussion sessions on the presentation topics, specifically state of the art/technology, challenges for feedstock production, and R&D prioritization.

Public Participation

Members of the public are welcome to register and attend the workshop. To attend the workshop, you must contact Dr. Brianna Farber at (202) 586-5188 or Email: eere_biomass@ee.doe.gov by February 10, 2020. DOE will also accept public comments as described in ADDRESSES for purposes of developing the Bioenergy Technologies Office portfolio, but will not respond individually to comments received.

Participants should limit information and comments to those based on personal experience, individual advice, information, or facts regarding this topic. It is not the object of this session to obtain any group position or consensus from the meeting participants. To most effectively use the limited time, please refrain from passing judgment on another participant's recommendations or advice, and instead, concentrate on your individual experiences.

Information on Services for Individuals With Disabilities

Individuals requiring special accommodations at the meeting, please contact Brianna Farber no later than the close of business on February 18, 2020.

Confidential Business Information

According to 10 CFR 1004.11, any person submitting information that he or she believes to be confidential and exempt by law from public disclosure should submit via email, postal mail, or hand delivery two well-marked copies: One copy of the document marked confidential including all the information believed to be confidential, and one copy of the document marked non-confidential with the information believed to be confidential deleted. Submit these documents via email or on a CD, if feasible. DOE will make its own determination about the confidential status of the information and treat it according to its determination.

Signed in Washington, DC, on February 10, 2020.
Jonathan Male,
Director, Bioenergy Technologies Office.

[FR Doc. 2020-03367 Filed 2-19-20; 8:45 am]

BILLING CODE 6450-01-P